DEPARTMENT OF THE INTERIOR

Bureau of Land Management

[AZ-330-06-1610-DQ-082A]

Notice of Availability of Lake Havasu Field Office Proposed Resource Management Plan and Final Environmental Impact Statement

AGENCY: Bureau of Land Management, Interior.

ACTION: Notice of Availability (NOA) of Lake Havasu Field Office (LHFO) Proposed Resource Management Plan and Final Environmental Impact Statement (PRMP/FEIS).

SUMMARY: In compliance with the Bureau of Land Management's (BLM) planning regulations, Title 43 Code of Federal Regulations (CFR) 1610.2(f)(3) and the National Environmental Policy Act (NEPA) Regulations, Title 40 CFR 1502.9(a), the BLM hereby gives notice that the LHFO PRMP/FEIS is available for public review and comment. The planning area encompasses more than 1.3 million acres of BLM-administered lands.

DATES: Written protests on the PRMP/FEIS will be accepted for 30 days following the date the Environmental Protection Agency publishes its NOA in the Federal Register.

ADDRESSES: All protests must be in writing and must be sent to the following address via regular mail or other delivery service. Protests must be postmarked no later than 30 days after the NOA is published in the Federal Register. The exact date will be published in local media and on our Web site, http://www.blm.gov/AZ/LUP/havasu/lhfo_plan.htm. Extensions will not be granted.

Protest letters must be sent to:

U.S. Postal Service, Director, Bureau of Land Management, Attention: Brenda Williams (WO-210), P.O. Box 66538, Washington, DC 20035.

Overnight Express Mail,Director, Bureau of Land Management,Attention: Brenda Williams (WO-210),1620 L Street, NW.,Suite 1075,Washington, DC 20236.

FOR FURTHER INFORMATION CONTACT: Gina Trafton, Bureau of Land Management, 2610 Sweetwater Avenue, Lake Havasu City, Arizona 86406. To receive a copy of the document, contact the BLM via e-mail at Lake_Havasu@blm.gov or call (928) 505-1200.

SUPPLEMENTARY INFORMATION: A copy of the LHFO PRMP/FEIS is available for review via the Internet from a link at http://www.blm.gov/AZ/LUP/havasu/lhfo_plan.htm, electronic (on CD-ROM) and paper at the BLM, LHFO. Electronic (on CD-ROM) and paper copies may also be obtained by contacting Gina Trafton at the aforementioned address and phone number.

E-mail and faxed protests will not be accepted as valid, unless the protesting party also provides the original letter by regular mail or other delivery service postmarked by the close of the protest period. Under these conditions, the BLM will consider the e-mail or faxed protest as an advance copy and it will receive full consideration. If you wish to provide us with such advance notification, please direct faxed protests to the attention of Brenda Hudgens-Williams, Protest Coordinator, at (202) 452-5112 and e-mails to bhudgens@blm.gov.

At a minimum, protest letters must include:

1. The name, mailing address, telephone number, and interest of the person filing the protest.

2. A statement of the issue(s) being protested.

3. A statement of the part(s) of the proposed plan being protested. To the extent possible, this should be done by reference to specific pages, paragraphs, sections, tables, or maps included in the document.

4. A copy of all documents addressing the issue(s) that you submitted during the planning process or a reference to the date the issue(s) were discussed for the record.

5. A concise statement explaining why you believe the proposed plan is wrong. All relevant facts need to be included in this statement of reasons. The facts, reasons, and documentation are important to help us understand your protest, and that you are not merely expressing disagreement with the proposed decision.

The BLM Director will promptly render a decision on the protests. The decision will be in writing and will set forth the reasons for the decision. The protest decision will be sent to the protesting party by certified mail, return receipt requested. The decision of the Director will be the final decision of the Department of the Interior. The State Director will sign the Record of Decision for the Lake Havasu Plan once the protests are resolved.

Public comments, including names and street addresses of respondents, will be available for public review at Bureau of Land Management, 2610 Sweetwater Avenue, Lake Havasu City, Arizona 86406, during regular business hours (8 a.m. to 4:30 p.m.), Monday through Friday, except holidays. Individual respondents may request confidentiality. If you wish to withhold your name or street address from public review or from disclosure under the Freedom of Information Act, you must state this prominently at the beginning of your comments. Such requests will be honored to the extent allowed by law. All submissions from organizations or businesses, and from individuals identifying themselves as representatives or officials of organizations or businesses, will be made available for public inspection in their entirety.

The LHFO PRMP/FEIS is being developed by the BLM. The PRMP/FEIS includes strategies for protecting and preserving the biological, cultural, recreational, geological, educational, scientific, and scenic values that balance multiple uses of the BLM-administered lands throughout the LHFO planning area.

The Proposed Plan attempts to accomplish the above through coordination with the Bureau of Reclamation, U.S. Fish and Wildlife Service, Arizona Department of Transportation, Arizona State Land Department, Arizona Game and Fish Department, California Department of Fish and Game, the BLM, and other land managing agencies within the boundaries of the planning areas. The range of alternatives in this PRMP/FEIS evaluates planning decisions brought forward from the current BLM planning documents; the Yuma District Resource Management Plan (1987), Kingman Resource Area Resource Management Plan (1995), Lower Gila South Resource Management Plan (1988) and Lower Gila North Management Framework Plan (1983).

The Proposed Plan identifies five potential Areas of Critical Environmental Concern (ACECs): Beale Slough Riparian and Cultural ACEC (2,395 acres); Bullhead Bajada Natural and Cultural ACEC (7,090 acres); Crossman Peak Scenic ACEC (48,855 acres); Swansea Historic District ACEC (5,973 acres); and Three Rivers Riparian ACEC (2,246 acres). The following types of resource use limitations would generally apply to these ACECs: (1) Design grazing prescriptions to achieve the desired plant community objectives; (2) Recreation facilities would be limited to projects that protect ACEC values; (3) Camping would be limited to developed or signed sites; and (4) Travel would be permitted only on designated open and signed routes. For detailed information see Chapter 2 Description of Alternatives, Special Area Designations section.

Teresa A. Raml,
Associate State Director.

[FR Doc. 06-7834 Filed 9-21-06; 8:45 am]

BILLING CODE 4310-32-P